DEPARTMENT OF TRANSPORTATION

Federal Aviation Administration

14 CFR Part 39

[Docket No. FAA-2011-0543; Directorate Identifier 2011-CE-018-AD; Amendment 39-16709; AD 2011-12-02]

RIN 2120-AA64

Airworthiness Directives; Viking Air Limited Model DHC-3 (Otter) Airplanes

AGENCY: Federal Aviation Administration (FAA), DOT.

ACTION: Final rule; request for comments.

SUMMARY: We are adopting a new airworthiness directive (AD) for the products listed above that are equipped with a Honeywell TPE331-10 or -12JR turboprop engine installed per Supplemental Type Certificate (STC) SA09866SC. This AD requires incorporating revised airspeed limitations and marking the airspeed indicator accordingly. There is also a requirement for the installation of a temporary placard until the airspeed indicator can be modified but not to exceed a certain period of time. This AD was prompted by analysis that showed that airspeed limitations for the affected airplanes are not adjusted for the installation of a turboprop engine as stated in the regulations. We are issuing this AD to prevent the loss of airplane structural integrity due to the affected airplanes being able to operate at speeds that exceed the speeds established in the Federal aviation regulations for safe operation.

DATES: This AD is effective June 2, 2011.

We must receive comments on this AD by July 18, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Peter W. Hakala, Aerospace Engineer, FAA Rotorcraft Directorate, Fort Worth Special Certification Office, ASW-190, FAA, 2601 Meacham Blvd., Fort Worth, Texas 76137; phone: (817) 222-5145; fax: (817) 222-5785; e-mail: peter.w.hakala@faa.gov.

SUPPLEMENTARY INFORMATION:

Discussion

Recent analysis by the FAA on the Viking Air Limited Model DHC-3 (Otter) airplanes equipped with a Honeywell TPE331-10 or -12JR turboprop engine installed per Supplemental Type Certificate (STC) SA09866SC revealed that airspeed limitations for the affected airplanes are not adjusted for the installation of a turboprop engine as stated in the regulations. 14 CFR 23.1505 paragraph (c) applies to turbine engine airplanes and includes the following: “* * * a maximum operating limit speed (VMO/MMO-airspeed or Mach number, whichever is critical at a particular altitude) must be established as a speed that may not be deliberately exceeded in any regime of flight (climb, cruise, or descent) unless a higher speed is authorized for flight test or pilot training operations. VMO/MMO must be established so that it is not greater than the design cruising speed VC/MC and so that it is sufficiently below VD/MD and the maximum speed shown under 23.251 to make it highly improbable that the latter speeds will be inadvertently exceeded in operations. The speed margin between VMO/MMO and VD/MD or the maximum speed shown under 23.251 may not be less than the speed margin established between VC/MC and VD/MD under 23.335(b), or the speed margin found necessary in the flight test conducted under 23.253.”

The FAA has discovered that the affected airplanes, as currently certificated, have airspeed indicators with color band markings that do not comply with 14 CFR 23.1505(c). This could result in reduced safety margins that may result in an unsafe condition.

Based on further analysis with application of the regulations, the FAA has determined that an airspeed limitation of 134 miles per hour (mph) for airplanes with floats and 144 mph for basic land airplanes would address the concern for the unsafe condition.

This condition, if not corrected, could result in loss of airplane structural integrity due to the affected airplanes being able to operate at speeds that exceed the speeds established in the Federal aviation regulations for safe operation.

FAA's Determination

We are issuing this AD because we evaluated all the relevant information and determined the unsafe condition described previously is likely to exist or develop in other products of the same type design.

AD Requirements

This AD requires incorporating revised airspeed limitations and marking the airspeed indicator accordingly. There is also a requirement for the installation of a temporary placard until the airspeed indicator can be modified but not to exceed a certain period of time.

FAA's Justification and Determination of the Effective Date

An unsafe condition exists that requires the immediate adoption of this AD. The FAA has found that the risk to the flying public justifies waiving notice and comment prior to adoption of this rule because it could result in loss of airplane structural integrity due to the affected airplanes being able to operate at speeds that exceed the speeds established in the Federal aviation regulations for safe operation. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2011-0543 and Directorate Identifier 2011-CE-018-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 25 airplanes of U.S. registry

We estimate the following costs to comply with this AD:

Estimated Costs
Action | Labor cost | Parts cost | Cost per product | Cost on U.S. operators
Airplane Flight Manual Limitation, Placard, and Airspeed Indicator Modification | 10 work-hours × $85 per hour = $850 | $90 | $940 | $23,500

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-12-02 Viking Aircraft Limited: Amendment 39-16709; Docket No. FAA-2011-0543; Directorate Identifier 2011-CE-018-AD.

Effective Date

(a) This AD is effective June 2, 2011.

Affected ADs

(b) None.

Applicability

(c) This AD applies to Viking Aircraft Limited Model DHC-3 (Otter) airplanes, all serial numbers, that are:

(1) equipped with a Honeywell TPE331-10 or -12JR turboprop engine installed per Supplemental Type Certificate (STC) SA09866SC (Texas Turbines Conversions, Inc.); and

(2) certificated in any category.

Subject

(d) Joint Aircraft System Component (JASC)/Air Transport Association (ATA) of America Code: 11, Placards and Markings.

Unsafe Condition

(e) This AD was prompted by analysis that showed that airspeed limitations for the affected airplanes are not adjusted for the installation of a turboprop engine as stated in the regulations. We are issuing this AD to prevent of the loss of airplane structural integrity due to the affected airplanes being able to operate at speeds that exceed the speeds established in the Federal aviation regulations for safe operation.

Compliance

(f) Comply with this AD within the compliance times specified, unless already done.

Table 1—Actions, Compliance, and Procedures
Actions | Compliance
(1) Insert the following information into the Limitations section of the airplane flight manual (AFM) or AFM supplement: “Airspeed limitation: VMO = 144 MPH for land/ski plane and VMO = 134 MPH for seaplane.” | Before further flight after the effective date of this AD.
(i) This can be done by inserting this AD into the Limitations section of the AFM or AFM supplement.
(ii) Inserting the information into the Limitations section of the AFM or AFM supplement may be performed by the owner/operator (pilot) holding at least a private pilot certificate and must be entered into the aircraft records showing compliance with this AD in accordance with 14 CFR §§ 43.9 (a)(1)-(4) and 14 CFR 91.417(a)(2)(v). The record must be maintained as required by 14 CFR §§ 91.417, 121.380, or 135.439.
(2) Fabricate a placard using letters of at least ⅛-inch in height with the following words: “Never exceed airspeed of 144 MPH, VMO speed limit for land/ski plane and 134 MPH, VMO speed limit for seaplane.” Install this placard on the airplane instrument panel next to the airspeed indicator within the pilot's clear view. | Within the next 10 hours time-in-service (TIS) after the effective date of this AD.
(3) Modify the airspeed indicator accordingly to reflect the above limitation. Mark the airspeed indicator with a red radial line at 144 MPH for a land/ski plane and/or with a red radial at 134 MPH for a seaplane. This instrument modification must be done by an appropriately rated repair facility. | Within the next 30 days after the effective date of this AD.
(i) This action eliminates the need for the placard required by paragraph (f)(2) above.
(ii) This action can be done instead of the placard requirement in paragraph (f)(2) provided it is done within the next 10 hours TIS after the effective date of this AD.

Alternative Methods of Compliance (AMOCs)

(g)(1) The Manager, Fort Worth Special Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

Related Information

(h) For more information about this AD, contact Peter W. Hakala, Aerospace Engineer, FAA Rotorcraft Directorate, Fort Worth Special Certification Office, ASW-190, FAA, 2601 Meacham Blvd., Fort Worth, Texas 76137; phone: (817) 222-5145; fax: (817) 222-5785; e-mail: peter.w.hakala@faa.gov.

Issued in Kansas City, Missouri, on May 25, 2011.
Earl Lawrence,
Manager, Small Airplane Directorate, Aircraft Certification Service.

[FR Doc. 2011-13532 Filed 6-1-11; 8:45 am]

BILLING CODE 4910-13-P